DEPARTMENT OF EDUCATION

Office of Management; Notice of Membership of the Performance Review Board (PRB)

AGENCY: Department of Education.

ACTION: Notice of membership of the Performance Review Board (PRB).

SUMMARY: The Secretary announces the names of members of the PRB for the Department of Education. Under 5 U.S.C. 4314(c)(1) through (5), each agency is required to establish one or more Senior Executive Service (SES) PRB(s). The PRB reviews and evaluates the initial appraisal of a senior executive's performance along with any comments by senior executives and any higher level executive and makes recommendations to the appointing authority relative to the performance of the senior executive, including making recommendations on performance awards. The Department of Education's PRB also makes recommendations on SES pay level adjustments for career senior executives.

Membership

The following executives of the Department of Education have been selected to serve on the Performance Review Board of the Department of Education: Chair: Willie H. Gilmore, Co-chair: Rebecca O. Campoverde, Philip Link, Thomas Skelly, Ricky Takai, Linda A. Stracke, Danny Harris, Susan Bowers, John Higgins, Steven Winnick, Patricia Guard, Arthur Cole, Francisco Garcia, Robert Belle, Maureen McLaughlin, Sue Betka, Peirce Hammond, Dennis Berry, James Lynch, Linda Paulsen, James Manning, C. Todd Jones, and Susan Sclafani. The following executives have been selected to serve as alternate members of the PRB: Carol Cichowski, John Klenk, Art Love, and Craig Luigart.

FOR FURTHER INFORMATION CONTACT: Althea Watson, Director, Executive Resources Team, Human Resources Group, Office of Management, Department of Education, room 2E124, FOB-6, 400 Maryland Avenue, SW., Washington, DC 20202-4573, Telephone: (202) 401-0546. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site:

www.ed.gov/legislation/FedRegister

To use PDF you must have the Adobe Acrobat Reader, which is available free at this site. If you have questions about using PDF, call the U.S. Government Printing Office (GPO), toll free, at 1-888-293-6498; or in the Washington, DC, area at (202) 512-1530.

Note: The official version of this document is the document published in the Federal Register. Free internet access to the official edition of the Federal Register and the Code of Federal Regulations is available on GPO Access at: http://www.access.gpo.gov/nara/index.html.

Dated: August 17, 2001.
Rod Paige,
Secretary of Education.

[FR Doc. 01-21217 Filed 8-22-01; 8:45 am]

BILLING CODE 4000-01-P